ENVIRONMENTAL PROTECTION AGENCY

[FRL-7828-9]

Notice of Change of Requirement Due Dates for Previously Published Solicitation: Building State, Territorial, and Tribal Capacity To Address Children's Environmental Health: Environmental Triggers of Childhood Asthma

AGENCY: Environmental Protection Agency (EPA).

ACTION: Notice of change of requirement due dates.

SUMMARY: Requirement due dates listed in the previously published solicitation: Solicitation: “Building State, Territorial, and Tribal Capacity to Address Children's Environmental Health: Environmental Triggers of Childhood Asthma” have been changed. The original solicitation, FRL-7818-5] was published in the Federal Register on Monday, September 27, 2004/69 FR 57695-57705. These changes are being made to allow eligible applicants sufficient time to learn of this funding opportunity, develop strong Letters of Intent, and, if found eligible by EPA based on the Letters of Intent, to submit a strong Full Proposal.

The Major New Extended Requirement Due Dates Are:

Deadline for Letter of Intent email submission: November 15, 2004;

Notification of Applicant of Successful Letter of Intent: November 22, 2004;

Invitation Issued to Pre-proposal Assistance Call for successful Letters of Intent: November 22, 2004;

Pre-proposal Assistance Call: November 30, 2004;

Summary of Qs & As from Pre-proposal Assistance Call posted on Web site: December 7, 2004;

Last date for Qs & As to be submitted: January 20, 2005;

Solicitation Closing Date and Full Proposal shipping date for applicants found to be eligible by EPA based on the Letters of Intent: February 1, 2005.

Specific References for Changes in Requirement Due Dates:

Note: Page references below relate to the publication of this solicitation in the Federal Register/ Vol. 69, No. 186/Monday, September 27, 2004/Notices.

(1) Page 57696: Part I (5) Deadline for the Letter of Intent should read now read: November 15, 2004.

(2) Page 57696: Part I (6) Solicitation Closing Date and Full Proposal shipping date for applicants found to be eligible by EPA based on the Letters of Intent: should now read: February 1, 2005.

(3) Page 57696: Part I (8)(h) Application and Submission Information: should now read: A two part application process will be followed. Letters of Intent must be submitted by e-mail November 15, 2004. Applicants with successful Letters of Intent will be invited to participate in an optional Pre-proposal Assistance Call on to be held on November 30, 2004 and to submit a Full Proposal which must be shipped by February 1, 2005.

(4) Page 57698: Part II Section II. should read: It is expected that grants and cooperative agreements will begin around the summer of 2005 and be completed in the summer of 2006.

(5) Page 57699: Part II Section IV. 2. a. (1) (a) should now read: Stage 1 of this application process is a Letter of Intent (Up to two pages in length) which is due via e-mail to fletcher.bettina@epa.gov on or before November 15, 2004.

(6) Page 57700: Part II Section IV. 2. a. (1) (d) (Section 4) (1) should now read: Indication if you would like to participate in the November 30, 2004 optional Pre-proposal Assistance Call if your Letter of Intent is accepted.

(7) Page 57700: Part II Section IV. 2. b. (1) should now read: An optional Pre-proposal Assistance Conference Call will be held on November 30, 2004, to answer any questions prospective eligible applicants may have. If you indicate in your Letter of Intent a desire to participate in the Pre-proposal Assistance Conference Call and your Letter of Intent is found to be eligible, you will be emailed instructions for participating in the conference call.

Note: Applicants should periodically check the Web page below for updated information to applicants (e.g. posting of some Qs&As from Letters of Intent). A summary of the questions and answers from the November 30, 2004 optional Pre-proposal Assistance Call will be posted by December 7, 2004 at: http://yosemite.epa.gov/ochp/ochpweb.nsf/content/grants.htm.

(8) Page 57700: Part II Section IV. 2. b. (d) (iii) Question 5. should now read: All projects should be completed during the summer of 2006.

(9) Page 57701: Part II Section IV. 4. (a) Submission Dates and Times should now read:

(a) A required Stage 1 Letter of Intent is due via e-mail to fletcher.bettina@epa.gov on or before November 15, 2004 as indicated on the e-mail transmission. If e-mail is unavailable, a fax submission may be used The same due date applies and the date will be determined by the date registered on the receiving fax machine log and printed on the received documents by said machine. A confirming e-mail will be sent within two working days of receipt of e-mailed Letters of Intent. A confirming phone call will be made within two working days of receipt for faxed Letters of Intent. The applicant should follow up with a phone call to Bettina Fletcher at (202) 564-2646 if a confirmation is not received within the stated time frames. E-mail and fax transmissions received after November 15, 2004 will not be reviewed.

(b) Applicants submitting a Letter of Intent will be notified via e-mail on or before November 22, 2004 if they are deemed eligible to participate in the optional Pre-proposal Assistance Call and to submit a Full Proposal.

(c) Applicants with accepted Letters of Intent who expressed an interest in participating in the optional Pre-proposal Assistance Call will be advised in this e-mail on or before November 22, 2004 of the call-in number and the specific time for the call.

(d) All questions before and after the November 30, 2004 Pre-proposal Assistance Call, must be sent by e-mail to the following address: fletcher.bettina@epa.gov. The word “QUESTION” in Capital Letters and the name of the solicitation should appear in the Subject Line. Answers to allowable questions will be provided in a timely manner at: http://yosemite.epa.gov/ochp/ochpweb.nsf/content/grants.htm. EPA will not respond to technical questions by phone or fax.

(e) Optional Pre-proposal Assistance Call will be held on November 30, 2004.

(f) A summary of the questions and answers from the November 30, 2004 Pre-proposal Conference Call will be posted on the OCHP Web site http://yosemite.epa.gov/ochp/ochpweb.nsf/content/grants.htm on or before December 7, 2004.

(g) To ensure fair and open competition, EPA will respond to questions submitted by e-mail up to January 20, 2005. Questions and answers will be posted in a timely manner at: http://yosemite.epa.gov/ochp/ochpweb.nsf/content/grants.htm.

(h) Full Proposals from invited eligible applicants must be delivered to the private shipping company (e.g., Federal Express, UPS, DHL, or courier) for shipment or postmarked (see note in Section VIII) by the U.S. Post Office (not a private postage meter) postmark on or before February 1, 2005. Full Proposals shipped or mailed after this date will not be considered for funding under this solicitation. Date of shipment will be determined by the shipping company's shipping information or the U.S. Post Office (not a private postage meter) postmark on the shipping package depending upon the method of shipment.

(i) Applicants will receive an e-mail notification of receipt of the Full Proposal within one month of receipt by the Agency.

(j) The Selected Projects will be announced as their award negotiations are completed around early summer 2005. Those projects not selected for award in this funding cycle will also be notified at this time.

(k) Start Date for Projects: July 15, 2005 is the earliest start date that applicants should plan on and enter on their proposal forms and time lines. Grant recipients may begin incurring allowable costs on the start date identified in the EPA grant award agreement. Budget periods may run up to 12 months from the date of award.

(10) Page 57703 Part II Section VI. 1. Award Notices should now read: Organizations submitting Letters of Intent will be notified regarding their successful or unsuccessful Stage 1 application via e-mail on or before November 22, 2004.

Project Officers of organizations with Full Proposals that were selected for possible award (pending successful award negotiations) will be contacted around early summer of 2005 by the appropriate Regional Project Officer to work through the awards process.

(11) Page 57704 Part II Section VII. 2. should now read:

f. Questions and answers from the November 30, 2004 optional Pre-proposal Assistance Call will be summarized and posted within a week of the Assistance Call on the OCHP Web page at: http://yosemite.epa.gov/ochp/ochpweb.nsf/content/grants.htm

g. To ensure fair and open competition, EPA will respond to questions submitted by e-mail up to January 20, 2005.

(12) Page 57703 Part II Section VIII. 7. Attachment should now read: All state, tribal, territorial agencies/departments and state/territorial/tribal or regional (e.g. the asthma coalition of the greater metropolitan area of Smallville) asthma coalitions who intend to apply should complete this Letter of Intent information and return it to EPA via e-mail to fletcher.bettina@epa.gov by November 15, 2004.

(13) Page 57703 Part II Section VIII. 7. Section 4 should now read: Indicate below whether your organization would like to participate in the November 30, 2004 optional Pre-proposal Assistance Call IF YOUR LETTER OF INTENT IS FOUND TO BE ELIGIBLE. Questions and answers from the November 30, 2004 Pre-proposal Assistance Call will be posted by December 7, 2004 at: http://yosemite.epa.gov/ochp/ochpweb.nsf/content/grants.htm.

☐ Yes, I would like to participate in the November 30, 2004 Pre-proposal Assistance Call IF my Letter of Intent is found by EPA to be eligible.

☐ No, I decline to participate in the November 30, 2004 Pre-proposal Assistance Call if my Letter of Intent is found by EPA to be acceptable.

FOR FURTHER INFORMATION CONTACT: Bettina B. Fletcher; Office of Children's Health Protection; 1200 Pennsylvania Ave, NW.; Mail Code 1107A; Room 2512 Ariel Rios North; Washington, DC 20004-2403; fletcher.bettina@epa.gov; Phone: (202) 564-2646; FAX (202) 564-2733; Web site: http://yosemite.epa.gov/ochp/ochpweb.nsf/content/grants.htm.

Dated: October 12, 2004.
William H. Sanders III,
Acting Director, Office of Children's Health Protection.

[FR Doc. 04-23452 Filed 10-19-04; 8:45 am]

BILLING CODE 6560-50-P